DEPARTMENT OF AGRICULTURE

Office of the Assistant Secretary for Civil Rights

Notice of Request for Reinstatement of a Previously Approved Information Collection

AGENCY: Department of Agriculture, Office of the Assistant Secretary for Civil Rights.

ACTION: Notice and request for comments.

SUMMARY: In accordance with the Paperwork Reduction Act of 1995 (44 U.S.C. Chapter 35), this notice announces the United States Department of Agriculture (USDA) Office of the Assistant Secretary for Civil Rights' (OASCR) intention to seek reinstatement of a previously approved information collection. The OASCR will use the information collected to process respondents' discrimination complaints about programs conducted or assisted by USDA.

DATES: Comments on this notice must be received by January 21, 2011 to be assured of consideration.

ADDITIONAL INFORMATION OR COMMENTS: Contact David King, Office of the Assistant Secretary for Civil Rights, U.S. Department of Agriculture, 1400 Independence Ave., SW., Washington, DC 20250, (202) 720-8106 (voice), (202) 619-6853 (fax), david.king@ascr.usda.gov (e-mail).

SUPPLEMENTARY INFORMATION: Title: USDA Program Discrimination Complaint Form.

OMB Number: 0508-0002.

Expiration Date of Approval: Three years from approval date.

Type of Request: Reinstatement of a previously approved information collection.

Abstract: Under 7 CFR 15.6, “Any person who believes himself/herself or any specific class of individuals to be subjected to discrimination [in any USDA assisted program or activity] * * * may by himself/herself or by an authorized representative file * * * a written complaint.” Under CFR 15d.4, “Any person who believes that he or she (or any specific class of individuals) has been, or is being, subjected to [discrimination in any USDA conducted program or activity] * * * may file on his or her own, or through an authorized representative, a written complaint alleging such discrimination.” The collection of this information is an avenue by which the individual or his representative may file such a program discrimination complaint.

The requested information, which can be submitted by filling out a form or by submitting a letter, is necessary in order for USDA OASCR to address the alleged discriminatory action. The respondent is asked to state his/her name, mailing address, property address (if different from mailing address), telephone number, e-mail address (if any) and to provide a name and contact information for the respondent's representative (if any). A brief description of who was involved with the alleged discriminatory action, what occurred and when, is requested. In the event that the respondent is filing the program discrimination complaint more than 180 days after the alleged discrimination occurred, the respondent is asked to provide the reason for the delay. Finally, the respondent is asked to identify which bases are alleged to have motivated the discriminatory action (of those bases prohibited under either 7 CFR 15d.2: Race, color, national origin, age, sex, disability, religion, sexual orientation, marital or familial status, or because all or part of the individual's income is derived from any public assistance program; or under nondiscrimination regulations applying to recipients of Federal financial assistance from USDA: Race, color, national origin, sex, age, disability, religion or political beliefs). (Not all bases apply to all programs.)

The program discrimination complaint filing information, which is voluntarily provided by the respondent, will be used by the staff of USDA OASCR to intake, investigate, and adjudicate the respondent's complaint. The program discrimination complaint form will enable OASCR to better collect information from complainants in a timely manner, therefore reducing delays and errors in determining USDA jurisdiction.

Estimate of Burden: Public reporting burden for this collection of information will vary based on the complexity of the complaint, but is estimated to average 1 hour per response.

Type of Respondents: Mostly individuals who seek assistance from USDA or from programs that receive financial assistance from USDA, such as agricultural producers, applicants for Supplemental Nutrition Assistance Program benefits, and multi-family housing tenants, but also including some businesses and not-for profit organizations.

Estimated Number of Respondents: 1,000.

Estimated Number of Responses: 1,000.

Estimated Number of Responses per Respondent: 1.

Estimated Total Annual Burden on Respondents: 1,000 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to David King, Office of the Assistant Secretary for Civil Rights, U.S. Department of Agriculture, 1400 Independence Ave., SW., Washington, DC 20250 or to david.king@ascr.usda.gov. All comments received will be available for public inspection during regular business hours at the same address.

All responses to this notice will be summarized and included in the request for OMB approval. All comments will become a matter of public record.

Joe Leonard, Jr.,
Assistant Secretary for Civil Rights.

[FR Doc. 2010-29132 Filed 11-19-10; 8:45 am]

BILLING CODE M